GENERAL SERVICES ADMINISTRATION

41 CFR Parts 300-3, 301-11, 301-12, and 301-70

[FTR Case 2015-304; Docket 2015-0017, Sequence 1]

RIN 3090-AJ56

Federal Travel Regulation; Updating the Incidental Expenses Definition and the Laundry, Cleaning, and Pressing of Clothing Policy

AGENCY: Office of Government-wide Policy (OGP), General Services Administration (GSA).

ACTION: Proposed rule.

SUMMARY: GSA is proposing to amend the Federal Travel Regulation (FTR) by updating the definition for incidental expenses to include ATM fees, and by clarifying the policy for laundry, cleaning, and pressing of clothing.

DATES: Interested parties should submit comments to the Regulatory Secretariat at one of the addresses shown below on or before March 8, 2016 to be considered in the formation of the final rule.

ADDRESSES: Submit comments identified by FTR Case 2015-304 by any of the following methods:

• Federal eRulemaking Portal: http://www.regulations.gov. Submit comments via the Federal eRulemaking portal by searching for “FTR Case 2015-304.” Select the link “Comment Now” that corresponds with “FTR Case 2015-304” and follow the instructions provided at the screen. Please include your name, company name (if any), and “FTR Case 2015-304” on your attached document.

• Mail: General Services Administration, Regulatory Secretariat (MVCB), Attn. Ms. Flowers, 1800 F Street NW., Washington, DC 20405.

Instructions: Please submit comments only and cite “FTR Case 2015-304”, in all correspondence related to this case. All comments will be posted without change to http://www.regulations.gov, including any personal and/or business confidential information provided. To confirm receipt of your comment(s), please check www.regulations.gov approximately two to three days after submission to verify posting (except allow 30 days for posting of comments submitted by mail).

FOR FURTHER INFORMATION CONTACT: For clarification of content, contact Mr. Cy Greenidge, Program Analyst, Office of Government-wide Policy, at 202-219-2349. Contact the Regulatory Secretariat (MVCB), 1800 F Street NW., Washington, DC 20405, 202-501-4755, for information pertaining to status or publication schedules. Please cite FTR case 2015-304.

SUPPLEMENTARY INFORMATION:

A. Background

The FTR currently lists incidental expenses as fees and tips given to porters, baggage carriers, hotel staff, and staff on ships. Including ATM fees in incidental expenses, rather than reimbursing as a miscellaneous expense, will increase the Government's ability to project travel costs, improve cost control, and simplify rules of official travel. Additionally, this proposed rule removes the ambiguity on whether reimbursement of expenses for laundry, cleaning, and pressing of clothing for employees who go on official travel are subject to agency discretion.

B. Executive Orders 12866 and 13563

Executive Orders (E.O.s) 12866 and 13563 direct agencies to assess all costs and benefits of available regulatory alternatives, and if regulation is necessary, to select regulatory approaches that maximize net benefits (including potential economic, environmental, public health and safety effects, distributive impacts, and equity). E.O. 13563 emphasizes the importance of quantifying both costs and benefits, of reducing costs, of harmonizing rules, and of promoting flexibility. This proposed rule is not a significant regulatory action, and therefore, was not subject to review under Section 6(b) of E.O. 12866, Regulatory Planning and Review, dated September 30, 1993.

C. Regulatory Flexibility Act

This proposed rule would not have a significant economic impact on a substantial number of small entities within the meaning of the Regulatory Flexibility Act, 5 U.S.C. 601, et seq. This proposed rule is also exempt from the Administrative Procedure Act pursuant to 5 U.S.C. 553(a)(2) because it applies to agency management or personnel.

D. Paperwork Reduction Act

The Paperwork Reduction Act does not apply because the proposed changes to the FTR do not impose recordkeeping or information collection requirements, or the collection of information from offerors, contractors, or members of the public that require the approval of the Office of Management and Budget (OMB) under 44 U.S.C. 3501, et seq.

E. Small Business Regulatory Enforcement Fairness Act

This proposed rule is also exempt from Congressional review prescribed under 5 U.S.C. 801. This proposed rule is not a major rule under 5 U.S.C. 804.

List of Subjects in 41 CFR Parts 300-3, 301-11, 301-12 and 301-70

Administrative practices and procedures, Government employees, Travel and transportation expenses.

Dated: December 7, 2015.
Giancarlo Brizzi,
Acting Associate Administrator (M), Office of Government-wide Policy.

For the reasons set forth in the preamble, pursuant to 5 U.S.C. 5701-5711, GSA proposes to amend 41 CFR parts 300-3, 301-11, 301-12, and 301-70 as set forth below:

PART 300-3—GLOSSARY OF TERMS

1. The authority citation for 41 CFR part 300-3 continues to read as follows:

Authority: 5 U.S.C. 5707; 40 U.S.C. 121(c); 49 U.S.C. 40118; 5 U.S.C. 5738; 5 U.S.C. 5741-5742; 20 U.S.C. 905(a); 31 U.S.C. 1353; E.O 11609, as amended, 3 CFR, 1971-1975 Comp. p. 586, Office of Management and Budget Circular No. A-126, revised May 22, 1992.

2. Amend § 300-3.1 in the definition “Per diem allowance” by revising paragraph (c) to read as follows:

§ 300-3.1 What do the following terms mean?

* * * * *

Per diem allowance * * *

(c) Incidental expenses—Transaction fees for ATM services, and fees and tips given to porters, baggage carriers, hotel staff, and staff on ships.

* * * * *

PART 301-11—PER DIEM EXPENSES

3. The authority citation for 41 CFR part 301-11 continues to read as follows:

Authority: 5 U.S.C. 5707.

4. Amend § 301-11.31 by removing the first two sentences and adding one sentence in their place to read as follows:

§ 301-11.31 Are laundry, cleaning, and pressing of clothing expenses reimbursable?

Your agency may reimburse the expenses incurred for laundry, cleaning, and pressing of clothing as a miscellaneous travel expense for TDY within CONUS. * * *

PART 301-12—MISCELLANEOUS EXPENSES

5. The authority citation for 41 CFR part 301-12 continues to read as follows:

Authority: 5 U.S.C. 5707.

§ 301-12.1 [Amended]

6. Amend § 301-12.1 by removing from the second column titled “Fees to obtain money” the words “Transaction fees for use of automated teller machines (ATMs)—Government contractor-issued charge card”.

PART 301-70—INTERNAL POLICY AND PROCEDURE REQUIREMENTS

7. The authority citation for 41 CFR part 301-70 continues to read as follows:

Authority: 5 U.S.C. 5707; 40 U.S.C. 121(c); Sec. 2, Pub. L. 105-264, 112 Stat. 2350 (5 U.S.C. 5701, note), OMB Circular No. A-126, revised May 22, 1992, and OMB Circular No. A-123, Appendix B, revised January 15, 2009.

8. Amend § 301-70.200 by—

a. Removing from paragraph (f) the “cases and” and adding “cases” in its place;

b. Removing from paragraph (g) the period after the citation “§ 301-11.18(c)” and adding “; and” in its place; and

c. Adding paragraph (h) to read as follows:

§ 301-70.200 What governing policies must we establish for authorization and payment of per diem expenses?

* * * * *

(h) Who will determine, and in what instances, an employee will be separately reimbursed for transaction fees for use of automated teller machines (ATMs) when using the Government contractor-issued charge card, even though this expense is part of incidental expenses under per diem.

9. Amend § 301-70.301 by revising paragraph (c) to read as follows:

§ 301-70.301 What governing policies must we establish for payment of miscellaneous expenses?

* * * * *

(c) Who will determine if other miscellaneous expenses such as expenses for laundry, cleaning and pressing of clothing are appropriate for reimbursement in connection with official travel.

[FR Doc. 2015-33147 Filed 1-7-16; 8:45 am]

BILLING CODE 6820-14-P